DEPARTMENT OF STATE

[Public Notice: 10446]

Proposal To Extend Cultural Property Agreement Between the United States and Bulgaria

AGENCY: Department of State.

ACTION: Public notice.

SUMMARY: Proposal to extend the Memorandum of Understanding between the Government of United States of America and the Government of the Republic of Bulgaria Concerning the Imposition of Import Restrictions on Categories of Archaeological and Ecclesiastical Ethnological Material of the Republic of Bulgaria.

FOR FURTHER INFORMATION CONTACT: Andrew Cohen, Cultural Heritage Center, Bureau of Educational and Cultural Affairs: 202-632-6301; culprop@state.gov.

SUPPLEMENTARY INFORMATION: The Government of the Republic of Bulgaria has informed the Government of the United States of America of its interest in an extension of the Memorandum of Understanding between the Government of United States of America and the Government of the Republic of Bulgaria Concerning the Imposition of Import Restrictions on Categories of Archaeological and Ecclesiastical Ethnological Material of the Republic of Bulgaria. Pursuant to the authority vested in the Assistant Secretary of State for Educational and Cultural Affairs, and pursuant to 19 U.S.C. 2602(f)(1), an extension of this Memorandum of Understanding is hereby proposed.

A copy of the Memorandum of Understanding, the Designated List of categories of material restricted from import into the United States, and related information can be found at the Cultural Heritage Center website: http://culturalheritage.state.gov.

Marie Therese Porter Royce,
Assistant Secretary, Bureau of Educational and Cultural Affairs, Department of State.

[FR Doc. 2018-12679 Filed 6-12-18; 8:45 am]

BILLING CODE 4710-05-P